DEPARTMENT OF COMMERCE

International Trade Administration

[A-489-805]

Certain Pasta From Turkey: Preliminary Results of Antidumping Duty Administrative Review

AGENCY: Enforcement and Compliance, International Trade Administration, Department of Commerce.

SUMMARY: The Department of Commerce (the Department) is conducting an administrative review of the antidumping duty order on certain pasta (pasta) from Turkey. The review covers one exporter and producer of subject merchandise, Mutlu Makarnacilik Sanayi ve Ticaret A.S. (Mutlu). The period of review (POR) is July 1, 2015 through June 30, 2016. The Department preliminarily determines that Mutlu did not make a bona fide sale during the POR; therefore, we are preliminarily rescinding this administrative review. Interested parties are invited to comment on the preliminary results of this review.

DATES: Applicable August 7, 2017.

FOR FURTHER INFORMATION CONTACT: Fred Baker, AD/CVD Operations, Office VI, Enforcement and Compliance, International Trade Administration, Department of Commerce, 1401 Constitution Avenue NW., Washington, DC 20230; telephone: (202) 482-2924.

SUPPLEMENTARY INFORMATION:

Background

On July 24, 1996, the Department published the antidumping duty order on pasta from Turkey.¹ On July 5, 2016, the Department published a notice of an opportunity for interested parties to request an administrative review of the antidumping duty order on pasta from Turkey.² On July 29, 2016, the Department received a timely request for review of the order from Mutlu.³ Accordingly, on September 12, 2016, the Department published a notice of initiation of administrative review of the antidumping duty order on pasta from Turkey, covering the period July 1, 2015, through June 30, 2016.⁴ The Department subsequently issued initial and supplemental questionnaires to Mutlu, including an importer questionnaire to which we requested that Mutlu respond, if necessary, in collaboration with its importer.⁵ We received timely responses to these questionnaires. On April 3, 2017, and again on May 31, 2017, the Department extended the preliminary results of this review.⁶

¹ See Notice of Antidumping Duty Order and Amended Final Determination of Sales at Less than Fair Value: Certain Pasta from Turkey, 61 FR 38545 (July 24, 1996).

² See Antidumping or Countervailing Duty Order, Finding, or Suspended Investigation; Opportunity to Request Administrative Review, 81 FR 43584 (July 5, 2016).

³ See Letter from Mutlu, “Request for Administrative Review; Antidumping Duty Order Involving Certain Pasta from Turkey,” dated July 29, 2016.

⁴ See Initiation of Antidumping and Countervailing Duty Administrative Reviews, 81 FR 62720 (September 12, 2016) (Initiation Notice).

⁵ See Department Letter to Mutlu, dated June 19, 2017 (importer questionnaire).

⁶ See Memorandum, “Certain Pasta from Turkey: Extension of Deadline for Preliminary Results of Antidumping Duty Administrative Review,” dated April 3, 2017; see also Memorandum, “Certain Pasta from Turkey: Extension of Deadline for Preliminary Results of Antidumping Duty Administrative Review,” dated May 31, 2017 (extending the deadline until July 31, 2017).

Scope of the Order

Imports covered by this order are shipments of certain non-egg dry pasta in packages of five pounds four ounces or less, whether or not enriched or fortified or containing milk or other optional ingredients such as chopped vegetables, vegetable purees, milk, gluten, diastases, vitamins, coloring and flavorings, and up to two percent egg white.

For a full description of the scope of the order, see the Preliminary Decision Memorandum, (Preliminary Decision Memorandum).⁷

⁷ See “Decision Memorandum for the Preliminary Results of the Antidumping Duty Administrative Review of Certain Pasta from Turkey,” dated July 31, 2017. A list of the topics discussed in the Preliminary Decision Memorandum appears in Appendix I of this notice.

Methodology

The Department is conducting this review in accordance with section 751(a)(1)(B) and (2) of the Tariff Act of 1930, as amended (the Act). For a full description of the methodology underlying our conclusions, see the Preliminary Decision Memorandum, which is hereby adopted by this notice. The Preliminary Decision Memorandum is a public document and is on file electronically via Enforcement and Compliance's Antidumping and Countervailing Duty Centralized Electronic Service System (ACCESS). ACCESS is available to registered users at http://access.trade.gov and is available in the Central Records Unit, room B8024 of the main Department of Commerce building. In addition, a complete version of the Preliminary Decision Memorandum can be accessed directly at http://enforcement.trade.gov/frn/. The signed Preliminary Decision Memorandum and the electronic version of the Preliminary Decision Memorandum are identical in content.

Preliminary Rescission of the Antidumping Administrative Review of Mutlu

As discussed in the Bona Fide Sales Analysis Memorandum,⁸ the Department preliminarily finds that the sale made by Mutlu serving as the basis for this review is not a bona fide sale. Limited information is on the record of this review, due to Mutlu's importer's failure to respond to the importer questionnaire. Nonetheless, the Department reached this conclusion based on the totality of the record information surrounding Mutlu's reported sales, including those sales prices and quantities and the limited number of sales (i.e., one sale) that Mutlu reported during the POR.

⁸ See Memorandum, “2015-2016 Antidumping Duty Administrative Review of Certain Pasta from Turkey: Preliminary Bona Fide Sales Analysis for Mutlu Makarnacilik Sanayi ve Ticaret A.S.,” (Bona Fide Sales Analysis Memorandum) dated concurrently with, and hereby adopted by, this notice.

Because the non-bona fide sale was the only reported sale of subject merchandise during the POR, we find that Mutlu had no reviewable transactions during this POR. Accordingly, we are preliminarily rescinding this administrative review.⁹ Given that the factual information used in our bona fides analysis of Mutlu's sale involves business proprietary information, see the Bona Fide Sales Analysis Memorandum for a full discussion of the basis for our preliminary determination.

⁹ See 19 CFR 351.213(d)(3).

Public Comment

Interested parties may submit case briefs no later than 30 days after the date of publication of the preliminary results of review.¹⁰ Rebuttals to case briefs may be filed no later than five days after the briefs are filed.¹¹ All rebuttal comments must be limited to comments raised in the case briefs.¹²

¹⁰ See 19 CFR 351.309(c).

¹¹ See 19 CFR 351.309(d)(1).

¹² See 19 CFR 351.309(d)(2).

Interested parties who wish to request a hearing must submit a written request to the Assistant Secretary for Enforcement & Compliance, U.S. Department of Commerce, within 30 days after the date of publication of this notice.¹³ Requests should contain the party's name, address, and telephone number, the number of participants, and a list of the issues to be discussed. Oral argument presentations will be limited to issues raised in the briefs. If a request for a hearing is made, the Department intends to hold the hearing at the U.S. Department of Commerce, 1401 Constitution Avenue NW., Washington, DC 20230, at a date and time to be determined.¹⁴ Parties should confirm by telephone the date, time, and location of the hearing two days before the scheduled date.

¹³ See 19 CFR 351.310(c).

¹⁴ See 19 CFR 351.310(d).

All submissions, with limited exceptions, must be filed electronically using ACCESS. An electronically filed document must be received successfully in its entirety by the Department's electronic records system, ACCESS, by 5 p.m. Eastern Time (ET) on the due date. Documents excepted from the electronic submission requirements must be filed manually (i.e., in paper form) with the APO/Dockets Unit in Room 18022, and stamped with the date and time of receipt by 5 p.m. ET on the due date.¹⁵

¹⁵ See Antidumping and Countervailing Duty Proceedings: Electronic Filing Procedures; Administrative Protective Order Procedures, 76 FR 39263 (July 6, 2011).

The Department intends to issue the final results of this administrative review, which will include the results of its analysis of issues raised in any briefs received, no later than 90 days after the date these preliminary results of review are issued, pursuant to section 751(a)(2)(B) of the Act.

Assessment Rates

If the Department proceeds to a final rescission of this administrative review, the assessment rate to which Mutlu's shipments will be subject will not be affected by this review. If the Department does not proceed to a final rescission of this administrative review, pursuant to 19 CFR 351.212(b)(1), we will calculate importer-specific (or customer-specific) assessment rates based on the final results of this review.

Cash Deposit Requirements

If the Department proceeds to a final rescission of this administrative review, Mutlu's cash deposit rate will continue to be the all-others rate. If the Department issues final results for this administrative review, the Department will instruct CBP to collect cash deposits, effective upon the publication of the final results, at the rates established therein.

Notification to Importers

This notice also serves as a preliminary reminder to importers of their responsibility under 19 CFR 351.402(f)(2) to file a certificate regarding the reimbursement of antidumping duties prior to liquidation of the relevant entries during this review period. Failure to comply with this requirement could result in the Department's presumption that reimbursement of antidumping duties occurred and the subsequent assessment of double antidumping duties.

We are issuing and publishing these results in accordance with sections 751(a)(2)(B) and 777(i)(1) of the Act.

Dated: July 31, 2017.
Gary Taverman,
Deputy Assistant Secretary for Antidumping and Countervailing Duty Operations, performing the non-exclusive functions and duties of the Assistant Secretary for Enforcement and Compliance.

Appendix I

List of Sections in the Preliminary Decision Memorandum

1. Summary

2. Background

3. Scope of the Order

4. Discussion of the Methodology

5. Conclusion

[FR Doc. 2017-16577 Filed 8-4-17; 8:45 am]

BILLING CODE 3510-DS-P